DEPARTMENT OF THE INTERIOR

Bureau of Indian Affairs

Final Programmatic Environmental Impact Statement for the Proposed Navajo Ten-Year Forest Management Plan, Navajo Nation, Arizona/New Mexico

AGENCY: Bureau of Indian Affairs, Interior.

ACTION: Notice of cancellation.

SUMMARY: This notice advises the public that the Bureau of Indian Affairs is canceling the notice of intent to file a final programmatic Environmental Impact Statement for the proposed Navajo Nation Ten-Year Forest Management Plan that we published in the Federal Register on November 20, 2002 (67 FR 70090). We are withdrawing the document because it duplicates a previously issued Environmental Impact Statement for the same proposed action.

EFFECTIVE DATE: January 9, 2003.

FOR FURTHER INFORMATION CONTACT: Donald Sutherland, Bureau of Indian Affairs, Office of Trust Responsibilities, Environmental and Cultural Resources Management, 1849 C Street, NW., Washington, DC 20240; (202) 208-4791.

Dated: December 18, 2002.
Neal A. McCaleb,
Assistant Secretary—Indian Affairs.

[FR Doc. 03-429 Filed 1-8-03; 8:45 am]

BILLING CODE 4310-W7-P